DEPARTMENT OF COMMERCE

International Trade Administration

[C-570-009]

Calcium Hypochlorite From the People's Republic of China: Final Decision To Rescind the Countervailing Duty New Shipper Review of Haixing Jingmei Chemical Products Sales Co., Ltd.

AGENCY: Enforcement and Compliance, International Trade Administration, Department of Commerce.

SUMMARY: On January 3, 2017, the Department of Commerce (the Department) published its Preliminary intent to rescind the new shipper review (NSR) of the countervailing duty order on calcium hypochlorite from the People's Republic of China (PRC). The period of review is May 27, 2014, through December 31, 2015. As discussed below, we announced our preliminary intent to rescind this review because the Department requested but did not receive from Haixing Jingmei Chemical Products Sales Co., Ltd. (Jingmei) and its customers' information requested by the Department to determine whether, and conclude that, the sale under review is bona fide. Based on our analysis of the comments received, we make no changes to the preliminary intent to rescind. Accordingly, we have determined to rescind this NSR.

DATES: Effective March 29, 2017.

FOR FURTHER INFORMATION CONTACT: Ryan Mullen or Elizabeth Lobaugh, AD/CVD Operations, Office V, Enforcement and Compliance, International Trade Administration, U.S. Department of Commerce, 1401 Constitution Avenue NW., Washington, DC 20230; telephone: (202) 482-5260 or (202) 482-7425, respectively.

SUPPLEMENTARY INFORMATION:

Background

For a complete description of the events that followed the publication of the Preliminary Intent to Rescind,¹ see the Issues and Decision Memorandum.² The Issues and Decision Memorandum is a public document and is on file electronically via Enforcement and Compliance's Antidumping and Countervailing Duty Centralized Electronic Service System (ACCESS). ACCESS is available to registered users at http://access.trade.gov and to all users in the Department's Central Records Unit, Room B8024 of the main Department of Commerce building. In addition, a complete version of the Issues and Decision Memorandum can be accessed directly on the Internet at http://enforcement.trade.gov/frn/. The signed Issues and Decision Memorandum and the electronic version of the Issues and Decision Memorandum are identical in content.

¹ See Calcium Hypochlorite from the People's Republic of China: Preliminary Intent to Rescind the New Shipper Review of Haixing Jingmei Chemical Products Sales Co., Ltd., 82 FR 83 (January 3, 2017) (Preliminary Intent to Rescind).

² See Memorandum to Gary Taverman, Associate Deputy Assistant Secretary for Antidumping and Countervailing Duty Operations, from James Doyle, Director, Office V, “Issues and Decision Memorandum for the Final Rescission of the Countervailing Duty New Shipper Review of Calcium Hypochlorite from the People's Republic of China: Haixing Jingmei Chemical Products Sales Co., Ltd.” dated concurrently with and hereby adopted by this notice (Issues and Decision Memorandum).

Scope of the Order

The merchandise covered by the order is calcium hypochlorite, regardless of form (e.g., powder, tablet (compressed), crystalline (granular), or in liquid solution), whether or not blended with other materials, containing at least 10% available chlorine measured by actual weight. Calcium hypochlorite is currently classifiable under the subheading 2828.10.0000 of the Harmonized Tariff Schedule of the United States.³

³ For a complete description of the scope of the order, see the Issues and Decision Memorandum.

Analysis of Comments Received

All issues raised in the case briefs by parties are addressed in the Issues and Decision Memorandum.⁴ A list of the issues which parties raised is attached to this notice as an Appendix.

⁴ See Issues and Decision Memorandum.

Final Rescission of Jingmei New Shipper Review

In the Preliminary Intent to Rescind, we preliminarily determined to rescind this review because we requested, but were not provided, sufficient information to determine whether, and conclude that, Jingmei's sale of subject merchandise to the United States was bona fide. Based on the Department's complete analysis of all the information and comments on the record of this review, we make no changes to the Preliminary Intent to Rescind. Accordingly, we have determined to rescind this NSR. For a complete discussion, see the Issues and Decision Memorandum and the Preliminary Bona Fides Memo.⁵

⁵ See Memorandum to James C. Doyle, Director, Office V, Antidumping and Countervailing Duty Operations, through Catherine Bertrand, Program Manager, Office V, Antidumping and Countervailing Duty Operations, from Elizabeth Lobaugh, International Trade Analyst, “Bona Fide Nature of the Sale in the Countervailing Duty New Shipper Review of Calcium Hypochlorite from the People's Republic of China: Haixing Jingmei Chemical Products Sales Co., Ltd.” (December 27, 2016) (Preliminary Bona Fides Memo).

Assessment

As the Department is rescinding this NSR, we have not calculated a company-specific subsidy rate for Jingmei.

Cash Deposit Requirements

Effective upon publication of this notice of the final rescission of the NSR of Jingmei, the Department will instruct U.S. Customs and Border Protection to discontinue the option of posting a bond or security in lieu of a cash deposit for entries of subject merchandise from Jingmei. Because we did not calculate a subsidy rate for Jingmei, Jingmei continues to be subject to the all-others rate. The all-others rate is 65.85 percent.⁶ The current cash deposit requirements shall remain in effect until further notice.

⁶ See Calcium Hypochlorite from the People's Republic of China: Countervailing Duty Order, 80 FR 5085 (January 30, 2015).

Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

The Department is issuing and publishing these results in accordance with sections 751(a)(2)(B) and 777(i) of the Tariff Act of 1930, as amended, and 19 CFR 351.214 and 19 CFR 351.221(b)(5).

Dated: March 23, 2017.
Gary Taverman,
Associate Deputy Assistant Secretary for Antidumping and Countervailing Duty Operations.

Appendix List of Topics Discussed in the Issues and Decision Memorandum

I. Summary

II. Background

III. Scope of the Order

IV. Discussion of the Issues

Comment: Whether the Record Contains Sufficient Information To Conduct a Bona Fides Analysis

V. Recommendation

[FR Doc. 2017-06196 Filed 3-28-17; 8:45 am]

BILLING CODE 3510-DS-P